DEPARTMENT OF ENERGY

DOE Response to Recommendation 2012-1 of the Defense Nuclear Facilities Safety Board, Savannah River Site Building 235-F Safety

AGENCY: Department of Energy.

ACTION: Notice.

SUMMARY: On May 8, 2012, the Defense Nuclear Facilities Safety Board submitted Recommendation 2012-1, concerning Savannah River Site Building 235-F Safety, to the Department of Energy. In accordance with section 315(b) of the Atomic Energy Act of 1954, as amended, 42 U.S.C. 2286d(b), the following represents the Secretary of Energy's response to the Recommendation.

ADDRESSES: Send comments, data, views, or arguments concerning the Secretary's response to: Defense Nuclear Facilities Safety Board, 625 Indiana Avenue NW., Suite 700, Washington, DC 20004.

FOR FURTHER INFORMATION CONTACT: Mr. Steven Petras, Nuclear Engineer, Departmental Representative to the Defense Nuclear Facilities Safety Board, Office of Health, Safety and Security, U.S. Department of Energy, 1000 Independence Avenue SW., Washington, DC 20585.

Issued in Washington, DC, on July 10, 2012.
Mari-Josette Campagnone,
Departmental Representative, to the Defense Nuclear Facilities Safety Board, Office of Health, Safety and Security.

July 10, 2012

The Honorable Peter S. Winokur

Chairman

Defense Nuclear Facilities Safety Board

625 Indiana Avenue NW, Suite 700

Washington, DC 20004

Dear Mr. Chairman:

The Department of Energy (DOE) acknowledges receipt of Defense Nuclear Facilities Safety Board (Board) Recommendation 2012-1, Savannah River Site Building 235-F Safety, issued on May 9, 2012, and I accept the Recommendation.

DOE agrees with the Board that action must be taken to reduce the hazards associated with the material at risk that remains as residual contamination within Building 235-F.

The Board acknowledged in its letter that DOE has taken action to de-inventory Building 235-F of special nuclear material. DOE has also taken action to remove the transient combustible material within Building 235-F and to limit access. In developing an Implementation Plan (IP), DOE will address all sub-recommendations with the ultimate goal of reducing, to the extent feasible, the radiological hazards from residual contamination and the fire hazards due to excessive combustible materials and electrical ignition sources. Operability and safety basis related concerns on fire detection and alarm systems will be addressed in the IP. Emergency response posture predicated on a potential radiological release from Building 235-F will also be evaluated to ensure its adequacy, including improvements in conducting drills necessary to demonstrate the overall effectiveness.

DOE is committed to the safe design and operation of its nuclear facilities consistent with the principles of Integrated Safety Management, and values the Board's input on how DOE can improve its activities. We look forward to working with the Board as we work to reduce the hazards posed by Building 235-F.

I have assigned Dr. David C. Moody, Manager, Savannah River Operations Office, to be the Department's responsible manager for this Recommendation. He can be reached at (803) 952-9468.

Sincerely,

Steven Chu

[FR Doc. 2012-18176 Filed 7-24-12; 8:45 am]

BILLING CODE 6450-01-P